DEPARTMENT OF THE INTERIOR

National Park Service

[NPS-WASO-NAGPRA-NPS0034954; PPWOCRADN0-PCU00RP14.R50000]

Notice of Intent To Repatriate Cultural Items: American Numismatic Society, New York, NY

AGENCY: National Park Service, Interior.

ACTION: Notice.

SUMMARY: In accordance with the Native American Graves Protection and Repatriation Act (NAGPRA), the American Numismatic Society intends to repatriate a certain cultural item that meets the definition of an unassociated funerary object and that has a cultural affiliation with the Indian Tribes or Native Hawaiian organizations in this notice. The cultural item was removed from Oregon.

DATES: Repatriation of the cultural item in this notice may occur on or after January 4, 2023.

ADDRESSES: Dr. Gilles Bransbourg, Executive Director, American Numismatic Society, 75 Varick Street, 11th Floor, New York, NY 10013, telephone (212) 571-4470, email gbransbourg@numismatics.org.

SUPPLEMENTARY INFORMATION: This notice is published as part of the National Park Service's administrative responsibilities under NAGPRA. The determinations in this notice are the sole responsibility of the American Numismatic Society. The National Park Service is not responsible for the determinations in this notice. Additional information on the determinations in this notice, including the results of consultation, can be found in the summary or related records held by the American Numismatic Society.

Description

The one cultural item was removed from a Native American grave site in Oregon. In December of 1995, the item arrived at the American Numismatic Society in an anonymous envelope with the text “Found in an Indian grave in Oregon, with a Northwest Token—From Geo. A. Piper(?) Christmas 1923—Piper's(?) Lincoln token.”

The one unassociated funerary object is a bronze campaign medal or token issued by Scovill Manufacturing Company of Waterbury, Connecticut around 1860. On the obverse is a right-facing bust of Abraham Lincoln and the following text: “HON. ABRAHAM LINCOLN 1860.” The reverse depicts two men splitting logs, with a cabin in the background and the accompanying text: “THE RAIL SPLITTER OF THE WEST.”

After an internal review brought this previously unreported object to light, by email dated February 7, 2022, the Museum informed the Nez Perce Tribe and all Indian Tribes having ancestral associations with the modern state of Oregon, of the discovery of this item in the Museum's collection and its apparent affiliation with a Native American grave. In response, by email dated August 18, 2022, the Nez Perce Tribe requested repatriation of the item. The one unassociated funerary object is an 1860 Abraham Lincoln Campaign Medal.

Cultural Affiliation

The cultural item in this notice is connected to one or more identifiable earlier groups, tribes, peoples, or cultures. There is a relationship of shared group identity between the identifiable earlier groups, tribes, peoples, or cultures and one or more Indian Tribes or Native Hawaiian organizations. The following types of information were used to reasonably trace the relationship: geographical.

Determinations

Pursuant to NAGPRA and its implementing regulations, and after consultation with the appropriate Indian Tribes and Native Hawaiian organizations, the American Numismatic Society has determined that:

• The one cultural item described above is reasonably believed to have been placed with or near individual human remains at the time of death or later as part of the death rite or ceremony and are believed, by a preponderance of the evidence, to have been removed from a specific burial site of a Native American individual.

• There is a relationship of shared group identity that can be reasonably traced between the cultural items and the Nez Perce Tribe (previously listed as Nez Perce Tribe of Idaho).

Requests for Repatriation

Additional, written requests for repatriation of the cultural item in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after January 4, 2023. If competing requests for repatriation are received, the American Numismatic Society must determine the most appropriate requestor prior to repatriation. Requests for joint repatriation of the cultural items are considered a single request and not competing requests. The American Numismatic Society is responsible for sending a copy of this notice to the Indian Tribe identified in this notice.

Authority: Native American Graves Protection and Repatriation Act, 25 U.S.C. 3003, and the implementing regulations, 43 CFR 10.8, § 10.10, and § 10.14.

Dated: November 23, 2022.
Melanie O'Brien,
Manager, National NAGPRA Program.

[FR Doc. 2022-26374 Filed 12-2-22; 8:45 am]

BILLING CODE 4312-52-P